DEPARTMENT OF LABOR

Office of the Secretary

Submission for OMB Review: Comment Request

March 16, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Occupational Safety and Health Administration (OSHA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Blasting Operations and the Use of Explosives (29 CFR part 1926, Subpart U).

OMB Control Number: 1218-0217.

Affected Public: Business or other for-profits.

Estimated Number of Respondents: 160.

Estimated Total Annual Burden Hours: 1,294.

Estimated Total Annual Costs Burden (does not include wage/hour costs): $800,000.

Description: The information collection requirements provide protection to employees who work with and around blasting operations. In addition, inventories of explosives must be maintained to assure employer and blaster accountability for explosives. For additional information, see the related 60-day preclearance notice published in the Federal Register at Vol. 73 FR 74525 on December 8, 2008. PRA documentation prepared in association with the preclearance notice is available on http://www.regulations.gov under docket number OSHA-2008-0045.

Agency: Occupational Safety and Health Administration.

Type of Review: Extension without change of a previously approved collection.

Title of Collection: OSHA Strategic Partnership for Worker Safety and Health Program (OSPP).

OMB Control Number: 1218-0244.

Affected Public: Business or other for-profits.

Estimated Number of Respondents: 24,272.

Estimated Total Annual Burden Hours: 361,416.

Estimated Total Annual Costs Burden (does not include wage/hour costs): $0.

Description: The OSPP allows OSHA to enter into an extended, voluntary, cooperative relationship with groups of employers, employees, and representatives to encourage, assist and recognize their efforts to eliminate serious hazards and to achieve a high level of employee safety and health that goes beyond what historically has been achieved through traditional enforcement methods. Each OSHA Strategic Partnership (OSP) determines which information will be needed, selects the best collection method, and specifies how the information will be used. At a minimum each OSP must identify baseline illness and injury data corresponding to all summary line items on the OSHA 300 logs, and must track changes at either the worksite level or participant-aggregate level. For additional information, see the related 60-day preclearance notice published in the Federal Register at Vol. 73 FR 67546 on November 14, 2008. PRA documentation prepared in association with the preclearance notice is available on http://www.regulations.gov under docket number OSHA-2008-0041.

Darrin A. King,
Departmental Clearance Officer.

[FR Doc. E9-6033 Filed 3-19-09; 8:45 am]

BILLING CODE 4510-26-P